FEDERAL COMMUNICATIONS COMMISSION

47 CFR Part 2

[IB Docket No. 12-376; FCC 12-161]

Earth Stations Aboard Aircraft Communicating with Fixed-Satellite Service Geostationary-Orbit Space Stations

AGENCY: Federal Communications Commission.

ACTION: Proposed rule.

SUMMARY: This Notice of Proposed Rulemaking (NPRM) seeks comment on a proposal to elevate the allocation status of Earth Stations Aboard Aircraft (ESAA) in the 14.0-14.5 GHz band from secondary to primary and whether giving ESAA licensees primary status in the 14.0-14.5 GHz band would require a change to the technical rules.

DATES: Submit comments on or before April 8, 2013, and replies on or before April 29, 2013.

ADDRESSES: You may submit comments, identified by IB Docket No. 12-376, by any of the following methods:

Federal eRulemaking Portal: http://www.regulations.gov. Follow the instructions for submitting comments.

Federal Communications Commission's ECFS Web site: http://fjallfoss.fcc.gov/ecfs2/. Follow the instructions for submitting comments.

People with Disabilities: Contact the FCC to request reasonable accommodations (accessible format documents, sign language interpreters, CART, etc.) by email to FCC504@fcc.gov, phone: 202-418-0530 (voice), tty: 202-418-0432.

For detailed instructions on submitting comments and additional information on the rulemaking process, see the SUPPLEMENTARY INFORMATION section of this document.

FOR FURTHER INFORMATION CONTACT: Andrea Kelly, Satellite Division, International Bureau, FCC, (202) 418-0748, Andrea.Kelly@fcc.gov, or Howard Griboff, Policy Division, International Bureau, FCC, (202) 418-1460, Howard.Griboff@fcc.gov.

SUPPLEMENTARY INFORMATION: This is a summary of the Commission's Notice of Proposed Rulemaking in IB Docket No. 12-376, FCC 12-161, adopted on December 20, 2012 and released on December 28, 2012. The full text of this document is available for inspection and copying during normal business hours in the FCC Reference Center, 445 12th Street, SW., Washington, DC 20554. The document also is available for download over the Internet at http://hraunfoss.fcc.gov/edocs_public/attachmatch/FCC-12-161A1.doc. The complete text also may be purchased from the Commission's duplicating contractor, Best Copy and Printing, Inc. (BCPI), located in Room CY-B402, 445 12th Street SW., Washington, DC 20554. Customers may contact BCPI at its Web site, http://www.bcpiweb.com, or call 1-800-378-3160.

Comment Filing Procedures

Pursuant to §§ 1.415, 1.419, interested parties may file comments and reply comments on or before the dates indicated above. Comments may be filed using the Commission's Electronic Comment Filing System (ECFS). See Electronic Filing of Documents in Rulemaking Proceedings, 63 FR 24121 (1998).

Electronic Filers: Comments may be filed electronically using the Internet by accessing the ECFS Web site at http://fjallfoss.fcc.gov/ecfs2/.

Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

Summary of Notice of Proposed Rulemaking

In the Report and Order released simultaneously with this Notice of Proposed Rulemaking, IB Docket No. 12-376, the Commission adopts footnotes to the Table of Allocations indicating that ESAA is an application of the FSS and may be authorized to communicate with GSO space stations of the FSS on a primary basis in the 11.7-12.2 GHz band (space-to-Earth), on an unprotected basis in 10.95-11.2 GHz and 11.45-11.7 GHz (space-to-Earth), and on a secondary basis in the 14.0-14.5 GHz band (Earth-to-space). A number of parties argue, however, that regulatory parity between ESV, VMES and ESAA suggests that ESAA as an application of the FSS should also be authorized on a primary basis in the 14.0-14.5 GHz uplink band. The Commission believes that the technical rules adopted in the Report and Order would support such a regulatory change. Accordingly, the Commission tentatively concurs with this recommendation and seeks comment on the proposal to elevate ESAA as an application of the FSS to primary status in the 14.0-14.5 GHz band (Earth-to-space) band. Specifically, we propose to revise non-Federal government (NG) footnote 55 to include a primary allocation for ESAA in the 14.0-14.5 GHz (Earth-to-space) band. The proposed footnote reads as follows:

NG55 In the bands 11.7-12.2 GHz (space-to-Earth) and 14-14.5 GHz (Earth-to-space), Earth Stations on Vessels (ESV), Vehicle-Mounted Earth Stations (VMES), and Earth Stations Aboard Aircraft (ESAA) as regulated under 47 CFR part 25 are applications of the fixed-satellite service and may be authorized to communicate with geostationary satellites in the fixed-satellite service on a primary basis.

This proposed footnote would grant primary status to ESAA in the 14.0-14.5 GHz band, and as a ministerial matter, would consolidate the text from footnotes NG54, NG183, and NG187, which the Commission proposes to eliminate. The Commission requests comment on these proposals, including on all costs and benefits. Further, the Commission also seeks comment on whether changing ESAA operations in the uplink band from secondary status to primary status requires any adjustment to our technical rules.

Paperwork Reduction Act of 1995 Analyses

The Notice of Proposed Rulemaking contains no new or modified information collection requirements as it merely proposes a change to the Table of Allocations.

Initial Regulatory Flexibility Analysis

As required by the Regulatory Flexibility Act of 1980, as amended (RFA), the Commission has prepared this present Initial Regulatory Flexibility Analysis (IRFA) of the possible significant economic impact on a substantial number of small entities by the policies and rules proposed in this Notice of Proposed Rulemaking in IB Docket No. 12-376. Written public comments are requested on this IRFA. Comments must be identified as responses to the IRFA and must be filed by the deadlines specified in the NPRM for comments.

The NPRM seeks to promote innovative and flexible use of satellite technology to provide advanced communications capabilities from earth stations that would operate on board aircraft as a licensed application of the Fixed-Satellite Service (FSS) in the 10.95-11.2 GHz, 11.45-11.7 GHz, 11.7-12.2 GHz, and 14.0-14.5 GHz bands within the United States. This application is called Earth Stations Aboard Aircraft (ESAA). The NPRM seeks comment on a proposal to elevate the allocation status of ESAA in the 14.0-14.5 GHz band from secondary to primary.

The proposed action is authorized pursuant to sections 1, 2, 4(i), 301, 302, 303, and 324 of the Communications Act of 1934, as amended, 47 U.S.C. 151, 152, 154(i), 301, 302, 303, and 324.

The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act. A small business concern is one that: (1) Is independently owned and operated; (2) is not dominant in its field of operation; and (3) satisfies any additional criteria established by the Small Business Administration (SBA).

Two economic census categories address the satellite industry. The first category has a small business size standard of $15 million or less in average annual receipts, under SBA rules. The second has a size standard of $25 million or less in annual receipts. The category of Satellite Telecommunications “comprises establishments primarily engaged in providing telecommunications services to other establishments in the telecommunications and broadcasting industries by forwarding and receiving communications signals via a system of satellites or reselling satellite telecommunications.” Census Bureau data for 2007 show that 512 Satellite Telecommunications firms that operated for that entire year. Of this total, 464 firms had annual receipts of under $10 million, and 18 firms had receipts of $10 million to $24,999,999. Consequently, the Commission estimates that the majority of Satellite Telecommunications firms are small entities that might be affected by our action.

The second category, i.e., “All Other Telecommunications” comprises “establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. For this category, Census Bureau data for 2007 show that there were a total of 2,383 firms that operated for the entire year. Of this total, 2,347 firms had annual receipts of under $25 million and 12 firms had annual receipts of $25 million to $49,999,999. Consequently, the Commission estimates that the majority of All Other Telecommunications firms are small entities that might be affected by our action.

Commission records reveal that there are approximately 20 space station licensees and operators in the 10.95-11.2 GHz, 11.45-11.7 GHz, 11.7-12.2 GHz and 14.0-14.5 GHz bands. We do not request or collect annual revenue information concerning such licensees and operators, and thus are unable to estimate the number of geostationary space station licensees and operators that would constitute a small business under the SBA definition cited above, or apply any rules providing special consideration for geostationary space station licensees and operators that are small businesses.

Currently there are approximately 2,879 operational Fixed-Satellite Service transmit/receive earth stations authorized for use in the band. The Commission does not request or collect annual revenue information, and thus is unable to estimate the number of earth stations that would constitute a small business under the SBA definition.

The rules proposed here merely propose a change to the Table of Frequency Allocations, and therefore the Commission does not project any new reporting, recordkeeping, or other compliance requirements for the licensees.

The RFA requires that, to the extent consistent with the objectives of applicable statutes, the analysis shall discuss significant alternatives such as: (1) The establishment of differing compliance or reporting requirements or timetables that take into account the resources available to small entities; (2) the clarification, consolidation, or simplification of compliance and reporting requirements under the rule for small entities; (3) the use of performance, rather than design, standards; and (4) an exemption from coverage of the rule, or any part thereof, for small entities.

The NPRM solicits comment on alternatives to elevation of the status of ESAA in the 14.0-14.5 GHz band to primary status.

Ordering Clauses

It is further ordered that pursuant to the authority contained in sections 4(i), 303(j), and 303(r) of the Communications Act of 1934, as amended, 47 U.S.C. 154(i), 154(j), 303(j), and 303(r) the Notice of Proposed Rulemaking in IB Docket No. 12-376 is adopted.

It is further ordered that the Commission's Consumer and Governmental Affairs Bureau, Reference Information Center SHALL SEND a copy of the related Report and Order and this Notice of Proposed Rulemaking, including the final regulatory flexibility analysis and initial regulatory flexibility analysis, to the Chief Counsel for Advocacy of the Small Business Administration, in accordance with section 603(a) of the Regulatory Flexibility Act, 5 U.S.C. 601, et seq.

List of Subjects in 47 CFR Part 2

Frequency allocations.

Federal Communications Commission.
Marlene H. Dortch,
Secretary.

For the reasons discussed in the preamble, the Federal Communications Commission proposes to amend 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Amend § 2.106, the Table of Frequency Allocations, as follows:

a. Pages 47 and 49 are revised.

b. In the list of non-Federal Government (NG) Footnotes, footnote NG55 is revised and footnotes NG54, NG183 and NG187 are removed.

The revisions and additions read as follows:

§ 2.106 Table of Frequency Allocations.

* * * * *

BILLING CODE 6712-01-P

BILLING CODE 6712-01-C

* * * * *

Non-Federal Government (NG) Footnotes

* * * * *

NG55 In the bands 11.7-12.2 GHz (space-to-Earth) and 14-14.5 GHz (Earth-to-space), Earth Stations on Vessels (ESV), Vehicle-Mounted Earth Stations (VMES), and Earth Stations Aboard Aircraft (ESAA) as regulated under 47 CFR part 25 are applications of the fixed-satellite service and may be authorized to communicate with geostationary satellites in the fixed-satellite service on a primary basis.

* * * * *

[FR Doc. 2013-04429 Filed 3-7-13; 8:45 am]

BILLING CODE 6712-01-P